DEPARTMENT OF ENERGY

Federal Energy Regulatory Commission

Notice of Commissioner Attendance at House Committee on Energy and Commerce Hearing

The Federal Energy Regulatory Commission (Commission) hereby gives notice that members of the Commission may attend the following hearing:

The House Committee on Energy and Commerce will be holding a general oversight hearing entitled “Oversight of the Federal Energy Regulatory Commission and the FY2019 Budget.” All five Commission members may testify at the hearing.

2123 Rayburn House Office Building, Washington, DC

April 17, 2018 at 10:00 a.m. eastern time

Further information regarding this hearing may be found at: https://energycommerce.house.gov/hearings/.

The discussions at the hearing, which are open to the public, may address issues relevant to Commission proceedings.

For further information, please contact Jehmal Hudson, 202-502-6142, or jehmal.hudson@ferc.gov.

Dated: April 10, 2018.
Kimberly D. Bose,
Secretary.

[FR Doc. 2018-07925 Filed 4-16-18; 8:45 am]

BILLING CODE 6717-01-P